DEPARTMENT OF THE TREASURY

United States Mint

Re-pricing of Several Silver Coin Products

AGENCY: United States Mint, Department of the Treasury.

ACTION: Notice.

SUMMARY: Because of the recent decrease in the market price of silver, the United States Mint is lowering the price of several silver coin products as follows:

2013 United States Mint Silver Proof Set®—$53.95

2012 and 2013 America the Beautiful Quarters Silver Proof Sets™—$31.95

2013 United States Mint Annual Uncirculated Dollar Coin Set—$44.95

2012 Making American History Coin and Currency Set—$67.95

2013 Congratulations Set—$54.95

American Eagle One Ounce Silver Proof Coin—$52.95

American Eagle One Ounce Silver Uncirculated Coin—$43.95

America the Beautiful Five Ounce Silver Uncirculated Coins™—$154.95

These prices will be effective at 12 noon on July 11, 2013.

FOR FURTHER INFORMATION CONTACT: Marc Landry, Acting Associate Director for Sales and Marketing; United States Mint; 801 9th Street NW., Washington, DC 20220; or call 202-354-7500.

Authority: 31 U.S.C. 5111, 5112 & 9701.

Dated: July 2, 2013.
Beverly Ortega Babers,
Chief Administrative Officer, United States Mint.

[FR Doc. 2013-16430 Filed 7-8-13; 8:45 am]

BILLING CODE P